DEPARTMENT OF AGRICULTURE

Animal and Plant Health Inspection Service

[Docket No. 01-104-1]

Notice of Request for Reinstatement of an Information Collection

AGENCY: Animal and Plant Health Inspection Service, USDA.

ACTION: Reinstatement of approval of an information collection; comment request.

SUMMARY: In accordance with the Paperwork Reduction Act of 1995, this notice announces the Animal and Plant Health Inspection Service's intention to request a reinstatement of an information collection in support of activities to prevent the introduction and spread of diseases and parasites harmful to honeybees.

DATES: We invite you to comment on this docket. We will consider all comments we receive that are postmarked, delivered, or e-mailed by February 4, 2002.

ADDRESSES: You may submit comments by postal mail/commercial delivery or by e-mail. If you use postal mail/commercial delivery, please send four copies of your comment (an original and three copies) to: Docket No. 01-104-1, Regulatory Analysis and Development, PPD, APHIS, Station 3C71, 4700 River Road Unit 118, Riverdale, MD 20737-1238. Please state that your comment refers to Docket No. 01-104-1. If you use e-mail, address your comment to regulations@aphis.usda.gov. Your comment must be contained in the body of your message; do not send attached files. Please include your name and address in your message and “Docket No. 01-104-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding exotic bee diseases and parasites, honeybees, and honeybee semen, contact Ms. Anissa Craghead, Regulatory Coordination Specialist, Regulatory Coordination Staff, PPQ, APHIS, 4700 River Road Unit 141, Riverdale, MD 20737, (301) 734-5311. For copies of more detailed information on the information collection, contact Mrs. Celeste Sickles, APHIS' Information Collection Coordinator, at (301) 734-7477.

SUPPLEMENTARY INFORMATION: Title: Exotic Bee Diseases and Parasites; Honeybees and Honeybee Semen.

OMB Number: 0579-0072.

Type of Request: Reinstatement of an information collection.

Abstract: The United States Department of Agriculture is responsible for preventing the introduction and spread of diseases and parasites harmful to honeybees, the introduction of genetically undesirable germ plasm of honeybees, and the introduction and spread of undesirable species or subspecies of honeybees.

The introduction and establishment of new honeybee diseases, parasites, and undesirable honeybee strains into the United States could cause multimillion dollar losses to American agriculture. Diseases or parasites can weaken or kill honeybees, causing substantial reductions in the production of honey and other honeybee products, as well as a reduction in pollination activity. Pollination is necessary for the production of many important crops, including forage, fruits, vegetables, and vegetable oils.

To protect the health of the U.S. honeybee population, we engage in a number of information collection activities designed to allow us to determine whether shipments of honeybees, honeybee semen, or bee-related items (such as beekeeping equipment) represent a possible risk of introducing exotic bee diseases, parasites, or undesirable honeybee strains into the United States.

Our primary means of obtaining this vital information is requiring importers to apply to us for an import permit. The permit application provides us with information such as the amount of bee semen to be imported and the species or subspecies of honeybee from which the semen was collected; the country or locality of origin; and the intended port of entry in the United States.

We also require importers and shippers to adhere to a number of marking and shipping requirements that enable us to easily identify and process shipments of honeybees, honeybee semen, and other restricted articles when they arrive at U.S. ports of entry.

These information-gathering procedures help us prevent the entry of shipments that pose a potential health risk to the U.S. honeybee population.

We are asking the Office of Management and Budget (OMB) to approve our use of these information collection activities.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 4.0625 hours per response.

Respondents: Importers and shippers of honeybees, honeybee semen, and other regulated articles.

Estimated annual number of respondents: 13.

Estimated annual number of responses per respondent: 1.23.

Estimated annual number of responses: 16.

Estimated total annual burden on respondents: 65 hours. (Due to averaging, the total annual burden hours may not equal the product of the annual number of responses multiplied by the reporting burden per response.)

All responses to this notice will be summarized and included in the request for OMB approval. All comments will also become a matter of public record.

Done in Washington, DC, this 29th day of November 2001.
W. Ron DeHaven,
Acting Administrator, Animal and Plant Health Inspection Service.

[FR Doc. 01-30109 Filed 12-4-01; 8:45 am]

BILLING CODE 3410-34-P